DEPARTMENT OF ENERGY

Office of Energy Efficiency and Renewable Energy

Notice of Public Meeting: Designing for Impact IV: Workshop on Building the National Network for Manufacturing Innovation

AGENCY: Advanced Manufacturing Office, Office of Energy Efficiency and Renewable Energy, Department of Energy (DOE).

ACTION: Notice of public meeting.

SUMMARY: DOE's Advanced Manufacturing Office, as part of the inter-agency Advanced Manufacturing National Program Office (AMNPO) announces the fourth of a series of public workshops entitled “Designing for Impact: Workshop on Building the National Network for Manufacturing Innovation. This workshop series provides a forum for the AMPNO to present on the proposed National Network for Manufacturing Innovation (NNMI) and its regional components, Institutes for Manufacturing Innovation (IMIs) and to provide an opportunity for public comment on the proposal. The discussion at the workshop will focus on the following topics: Technologies with Broad Impact, Institute Structure and Governance, Strategies for Sustainable Institute Operations, and Education and Workforce Development. The Designing for Impact workshop series is organized by representatives from the Department of Commerce, NIST; Department of Defense; Department of Energy; National Aeronautics and Space Administration; and National Science Foundation.

DATES: The meeting will be held Thursday, October, 18 2012, from 7:30 a.m. to 4:30 p.m.

ADDRESSES: University of Colorado at Boulder, Law School, 2450 Kittredge Loop Road, Boulder, CO 80309. Additional information can be found at http://manufacturing.gov/amp/ampevents.html.

FOR FURTHER INFORMATION CONTACT: Robert Ivester or Bhima Sastri, 202-586-9488, NNMI4@sra.com.

SUPPLEMENTARY INFORMATION: The President has proposed that the federal government catalyze the creation of a NNMI as a central element of the U.S. response to the manufacturing competitiveness challenge.¹ The proposed NNMI initiative focuses on strengthening and ensuring the long term competitiveness and job-creating power of U.S. manufacturing. The constituent IMIs would bring together industry, universities and community colleges, federal agencies, and U.S. states to accelerate innovation by investing in industrially-relevant manufacturing technologies with broad applications to bridge the gap between basic research and product development, provide shared assets to help companies—particularly small manufacturers—access cutting-edge capabilities and equipment, and create an unparalleled environment to educate and train students and workers in advanced manufacturing skills. Each IMI would serve as a regional hub of manufacturing excellence, providing the innovation infrastructure to support regional manufacturing and ensuring that our manufacturing sector is a key pillar in an economy that is built to last. Each IMI also would have a well-defined technology focus to address industrially-relevant manufacturing challenges on a large scale and to provide the capabilities and facilities required to reduce the cost and risk of commercializing new technologies. In his March 9, 2012 announcement, President Obama proposed building a national network consisting of up to 15 IMIs.

¹ See http://www.whitehouse.gov/sites/default/files/omb/budget/fy2013/assets/budget.pdf, page 217.

On May 4, 2012 the AMNPO issued a Request for Information (RFI), seeking public comment on specific questions related to the structure and operations of the NNMI and IMIs. (77 FR 26509) The RFI was published in the Federal Register and may be found at: http://www.gpo.gov/fdsys/pkg/FR-2012-05-04/pdf/2012-10809.pdf. Comments in response to the RFI are due on or before 11:59 p.m. Eastern Time on October 25, 2012. Those interested in providing written comments in response to the RFI should refer to the May 4, 2012 notice for information regarding submission of comments.

Tentative Agenda (Subject To Change)

An agenda will be posted online when available at: http://manufacturing.gov/amp/ampevents.html. This meeting is an opportunity for participants to provide, based on their individual experience, individual information and facts regarding this topic. It is not the object of this session to obtain any group position or consensus. Rather, the Department is seeking as many recommendations as possible from all individuals at this meeting.

Registration and Accommodations

Individuals planning to attend the fourth public workshop must sign-up in advance. Announcements of additional workshops may be found at: http://www.manufacturing.gov/amp/ampevents.html. Future workshops will also be announced in the Federal Register.

Issued in Washington, DC, on September 21, 2012.
Kathleen Hogan,
Deputy Assistant Secretary, Energy Efficiency and Renewable Energy.

[FR Doc. 2012-23887 Filed 9-27-12; 8:45 am]

BILLING CODE 6450-01-P